DEPARTMENT OF COMMERCE

National Oceanic and Atmospheric Administration

RIN: 0648-XL86

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a joint meeting of the Standing and Special Mackerel Scientific and Statistical Committees (SSC).

DATES: The Joint Standing and Special Mackerel SSC meeting will begin at 1:30 p.m. on Thursday, December 11, 2008 and conclude by 5 pm on Friday, December 12, 2008.

ADDRESSES: The meeting will be held at the Radisson Hotel, 2150 Veterans Memorial Blvd, New Orleans, LA 70062.

Council address: Gulf of Mexico Fishery Management Council, 2203 North Lois Avenue, Suite 1100, Tampa, FL 33607.

FOR FURTHER INFORMATION CONTACT: Dr. Richard Leard, Interim Executive Director; Gulf of Mexico Fishery Management Council; telephone: (813) 348-1630.

SUPPLEMENTARY INFORMATION: The Joint Standing and Mackerel SSC will meet to receive a presentation of a recent stock assessment for king mackerel and to make recommendations for acceptable biological catch (ABC) levels and annual catch limits (ACL) for Gulf migratory group king mackerel. The Standing SSC will also discuss and potentially develop recommendations for the Council as to its future role and responsibilities based on the Magnuson-Stevens Reauthorization Act changes.

Copies of the agenda and other related materials can be obtained by calling (813) 348-1630.

Although other non-emergency issues not on the agenda may come before the SSCs for discussion, in accordance with the Magnuson-Stevens Fishery Conservation and Management Act (Magnuson-Stevens Act), those issues may not be the subject of formal action during this meeting. Actions of the SSCs will be restricted to those issues specifically identified in the agenda and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: November 18, 2008.
Tracey L. Thompson,
Acting Director, Office of Sustainable Fisheries, National Marine Fisheries Service.

[FR Doc. E8-27682 Filed 11-20-08; 8:45 am]

BILLING CODE 3510-22-S